ENVIRONMENTAL PROTECTION AGENCY

[FRL-7154-6]

Agency Information Collection Activities: Submission for OMB Review; Comment Request Reporting Requirements for BEACH Act Grants

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Reporting Requirements for BEACH Act Grants, EPA ICR No. 2048.01. The ICR describes the nature of the information collection and its expected burden and cost; where appropriate, it includes the actual data collection instrument.

DATES: Comments must be submitted on or before April 8, 2002.

ADDRESSES: Send comments, referencing EPA ICR No. 2048.01 to the following addresses: Sandy Farmer, U.S. Environmental Protection Agency, Collection Strategies Division (Mail Code 2822), 1200 Pennsylvania Avenue, NW, Washington, DC 20460; and to Office of Information and Regulatory Affairs, Office of Management and Budget (OMB), Attention: Desk Officer for EPA, 725 17th Street, NW, Washington, DC 20503.

FOR FURTHER INFORMATION CONTACT: For a copy of the ICR contact Susan Auby at EPA by phone at (202) 260-4901, by e-mail at Auby.susan@epa.gov or download off the Internet at http://www.epa.gov/icr and refer to EPA ICR No. 2048.01. For technical questions about the ICR contact Charles Kovatch at 202-260-3754.

SUPPLEMENTARY INFORMATION: Title: Reporting Requirements for BEACH Act Grants (EPA ICR No. 2048.01). This is a new collection.

Abstract: Congress passed the Beaches Environmental Assessment and Coastal Health (BEACH) Act in October 2000, to amend the Clean Water Act in part by adding section 406 “Coastal Recreation Water Monitoring and Notification.” Section 406(b) requires EPA to make grants to States and local governments to develop and implement programs for monitoring and public notification for coastal recreation waters adjacent to beaches or similar points of access that are used by the public, if the State or local government satisfies the requirements of the BEACH Act.

Several of these requirements require a grant awardee to collect and submit information to EPA as a condition for receiving the grant. Section 406(b) requires a grant awardee to provide the factors that the awardees use to prioritize funds and a list of waters for which the grant funds will be used. Section 406(b) also requires that a grant awardee's program is consistent with the performance requirements set by EPA under section 406(a); EPA needs information from the grant awardee to determine if the monitoring and notification programs are consistent with these criteria. On July 31, 2001, EPA published the draft performance criteria for BEACH Act grants (66 FR 39510, July 31, 2001). Section 406(b) also requires that a grant awardee submit a report to EPA that describes the data collected as part of a monitoring and notification program and the actions taken to notify the public when water quality standards are exceeded. Section 406(c) requires a grant awardee to identify lists of coastal recreation waters, processes for States to delegate to local governments the responsibility for implementing a monitoring and notification program, and the content of the monitoring and notification program.

The information covered by this ICR is required of States and local governments that seek to obtain BEACH Act funding. It allows EPA to properly review State and local governments' monitoring and notification programs to determine if they are eligible for BEACH Act grant funding. This information also enables EPA to fulfill its obligations to make this information available to the public as required by sections 406(e) and (g).

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on September 26, 2001 (66 FR 49176 ); No (zero) comments were received.

Burden Statement: The annual public reporting and record keeping burden for this collection of information is estimated to average 1,993 hours per state per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Eligible state and local governments interested in receiving BEACH Act Grant funds.

Estimated Number of Respondents: 30 states and five territories.

Frequency of Response: Annual.

Estimated Total Annual Hour Burden: 69,755 hours per year.

Estimated Total Annualized Capital, O&M Cost Burden: $473,025 per year.

Send comments on the Agency's need for this information, the accuracy of the provided burden estimates, and any suggested methods for minimizing respondent burden, including through the use of automated collection techniques to the addresses listed above. Please refer to EPA ICR No. 2048.01 in any correspondence.

Dated: February 19, 2002.
Oscar Morales,
Director, Collection Strategies Division.

[FR Doc. 02-5604 Filed 3-7-02; 8:45 am]

BILLING CODE 6560-50-P